DEPARTMENT OF EDUCATION

National Assessment Governing Board; Meeting

AGENCY: Department of Education, National Assessment Governing Board.

ACTION: Notice of open meeting and partially closed sessions.

SUMMARY: The notice sets forth the schedule and proposed agenda of a forthcoming meeting of the National Assessment Governing Board. This notice also describes the functions of the Board. Notice of this meeting is required under Section 10(a)(2) of the Federal Advisory Committee Act. This document is intended to notify members of the general public of their opportunity to attend. Individuals who will need special accommodations in order to attend the meeting (e.g., interpreting services, assistive listening devices, materials in alternative format) should notify Munira Mwalimu at 202-357-6938 or at Munira.Mwalimu@ed.gov no later than February 19, 2010. We will attempt to meet requests after this date, but cannot guarantee availability of the requested accommodation. The meeting site is accessible to individuals with disabilities.

DATES: March 4-6, 2010.

Times

March 4: Committee Meetings

Assessment Development Committee: Closed Session—8:30 a.m. to 1:30 p.m.

Ad Hoc Committee on NAEP Testing and Reporting on Students with Disabilities and English Language Learners: Open Session—2:00 p.m. to 4:00 p.m.

Executive Committee: Open Session—4:30 p.m. to 5:30 p.m.; Closed Session—5:30 p.m. to 6:00 p.m.

March 5

Full Board: Open Session—8:30 a.m. to 9:30 a.m.; Closed Session—12:30 p.m. to 1:30 p.m.; Open Session—1:30 p.m. to 5:00 p.m.

Committee Meetings

Assessment Development Committee: Open Session—9:30 a.m. to 11:15 a.m.; Closed Session—11:15 a.m. to 12:15 p.m.

Committee on Standards, Design and Methodology: Open Session—9:30 a.m. to 11:30 a.m.; Closed Session 11:30 a.m. to 12:15 p.m.

Reporting and Dissemination Committee: Open Session—9:30 a.m. to 12:15 p.m.

March 6

Nominations Committee: Closed Session—7:30 a.m. to 8:15 a.m.

Full Board: Closed Session—8:30 a.m. to 9:00 a.m.; Open Session—9:30 a.m. to 12:00 p.m.

Location: Park Hyatt Washington, DC, 24th and M Street, NW., Washington, DC 20037.

FOR FURTHER INFORMATION CONTACT: Munira Mwalimu, Operations Officer, National Assessment Governing Board, 800 North Capitol Street, NW., Suite 825, Washington, DC, 20002-4233, Telephone: (202) 357-6938.

SUPPLEMENTARY INFORMATION: The National Assessment Governing Board is established under section 412 of the National Education Statistics Act of 1994, as amended.

The Board is established to formulate policy guidelines for the National Assessment of Educational Progress (NAEP). The Board's responsibilities include selecting subject areas to be assessed, developing assessment specifications and frameworks, developing appropriate student achievement levels for each grade and subject tested, developing standards and procedures for interstate and national comparisons, developing guidelines for reporting and disseminating results, and releasing initial NAEP results to the public.

On March 4, from 8:30 a.m. to 1:30 p.m., the Assessment Development Committee will meet in closed session to review test items in reading operational blocks for grades 4 and 8. The Board will be provided with embargoed test items that cannot be discussed in an open meeting. Premature disclosure of data would significantly impede implementation of the NAEP assessments in the subjects, and is therefore protected by exemption 9(B) of section 552b(c) of Title 5 U.S.C.

On March 4, the Ad Hoc Committee on NAEP Testing and Reporting on Students with Disabilities (SD) and English Language Learners (ELL) will meet in open session from 2:00 p.m. to 4:00 p.m. Thereafter, the Executive Committee will meet in open session from 4:30 p.m. to 5:30 p.m. and in closed session from 5:30 p.m. to 6:00 p.m. During the closed session on March 4, the Executive Committee will receive a briefing from the National Center for Education Statistics (NCES) on options for NAEP contracts covering the 2010-2012 assessment years, based on funding for Fiscal Year 2010-2011. The discussion of contract options and costs will address the implications for congressionally mandated goals and adherence to Board policies on NAEP assessments. This part of the meeting must be conducted in closed session because public discussion of this information would disclose independent government cost estimates and contracting options, adversely impacting the confidentiality of the contracting process. Public disclosure of information discussed would significantly impede implementation of the NAEP contracts, and is therefore protected by exemption 9(B) of section 552b(c) of Title 5 U.S.C.

On March 5, the full Board will meet in open session from 8:30 a.m. to 9:15 a.m. The Board will review and approve the meeting agenda and meeting minutes from the November 2009 Board meeting. This session will be followed by a report from the Governing Board's Executive Director and an update from the Deputy Commissioner of Education Statistics on the work of the National Center for Education Statistics (NCES). Thereafter the Board will recess for Committee meetings from 9:30 a.m. to 12:15 p.m.

From 9:30 a.m. to 11:15 p.m. on March 5, the Assessment Development Committee will meet in open session, followed by a closed session from 11:15 a.m. to 12:15 p.m. During the closed session, the Committee will receive briefings on NAEP assessment development topics related to science interactive computer tasks at grades 4, 8, and 12, reading vocabulary items at grades 4, 8, and 12, and the writing computer-based assessment at grades 8 and 12. The Board will be provided with embargoed test items data that cannot be discussed in an open meeting prior to their official release. Premature disclosure of data would significantly impede implementation of the NAEP assessments in the subjects, and is therefore protected by exemption 9(B) of section 552b(c) of Title 5 U.S.C.

On March 5, the Committee on Standards, Design and Methodology will meet in closed session from 11:30 a.m. to 12:15 p.m. to receive and discuss results of the science achievement levels setting process implemented on January 28-31, 2010. The Board will be provided with embargoed achievement level data that have not yet been released to the public and therefore cannot be discussed in an open meeting. Premature disclosure of data would significantly impede implementation of the NAEP assessment program, and is therefore protected by exemption 9(B) of section 552b(c) of Title 5 U.S.C.

The Reporting and Dissemination Committee will meet in open session on March 5 from 9:30 a.m. to 12:15 p.m. Thereafter, the full Board will meet in closed session from 12:30 p.m. to 1:30 p.m. to receive a briefing on the 2009 NAEP Reading Report Card for Grades 4 and 8. The Board will be provided with embargoed results that cannot be discussed in an open meeting prior to their official release. Premature disclosure of data would significantly impede implementation of the NAEP assessments in the subjects, and is therefore protected by exemption 9(B) of section 552b(c) of Title 5 U.S.C.

Following this closed session, the full Board will meet in open session from 1:30 p.m. to 2:30 p.m. to receive a briefing on the NAEP evaluation on achievement levels and reporting NAEP results. From 2:45 p.m. to 5:00 p.m. the Board will discuss recommended Board actions on the following items:

(1) Modification of NAEP Reading Achievement Level Descriptions.

(2) Governing Board Policy on Testing and Reporting on Students with Disabilities and English Language Learners.

(3) NAEP Technological Literacy Framework.

The March 5, 2010 Board meeting is scheduled to conclude at 5:00 p.m.

On March 6, the Nominations Committee will meet in closed session from 7:30 a.m. to 8:15 a.m. to discuss final candidates being proposed to the Board for appointment terms beginning October 1, 2010. From 8:30 a.m. to 9:00 a.m. the full Board will meet in closed session to take action on the final slate of candidates proposed by the Nominations Committee for submission to Secretary Arne Duncan. These discussions pertain solely to internal personnel rules and practices of an agency and will disclose information of a personal nature where disclosure would constitute an unwarranted invasion of personal privacy. As such, the discussions are protected by exemptions 2 and 6 of section 552b(c) of Title 5 U.S.C.

The full Board will meet in open session on March 6 from 9:00 a.m. to 10:00 a.m. to receive a briefing on NAEP quality assurance. From 10:00 a.m. to noon, the Board will receive Committee reports and take action on Committee recommendations.

The March 6, 2010 session of the Board meeting is scheduled to adjourn at 12:00 p.m.

Detailed minutes of the meeting, including summaries of the activities of the closed sessions and related matters that are informative to the public and consistent with the policy of section 5 U.S.C. 552b(c) will be available to the public within 14 days of the meeting. Records are kept of all Board proceedings and are available for public inspection at the U.S. Department of Education, National Assessment Governing Board, Suite #825, 800 North Capitol Street, NW., Washington, DC, from 9:00 a.m. to 5:00 p.m. Eastern Standard Time, Monday through Friday.

Electronic Access to This Document: You may view this document, as well as all other documents of this Department published in the Federal Register, in text or Adobe Portable Document Format (PDF) on the Internet at the following site: http://www.ed.gov/news/fedregister/index.html. To use PDF you must have Adobe Acrobat Reader, which is available free at this site. If you have questions about using PDF, call the U.S. Government Printing Office (GPO), toll free at 1-888-293-6498; or in the Washington, DC area at (202) 512-1530.

Note: The official version of this document is the document published in the Federal Register. Free Internet access to the official edition of the Federal Register and the Code of Federal Regulations is available on GPO Access at: www.gpoaccess.gov/nara/index.html.

Dated: February 16, 2010.
Cornelia S. Orr,
Executive Director, National Assessment Governing Board, U.S. Department of Education.

[FR Doc. 2010-3244 Filed 2-18-10; 8:45 am]

BILLING CODE 4000-01-P